DEPARTMENT OF THE TREASURY

Fiscal Year 2016 Service Contract Inventory

AGENCY: Departmental Offices, Treasury.

ACTION: Notice of Fiscal Year 2016 service contract inventory.

SUMMARY: The Department of the Treasury's Fiscal Year (FY) 2016 Service Contract Inventory. The Inventory lists all service contract actions over $25,000 awarded in FY 2016 and funded by Treasury, to include contract actions made on the Department's behalf by other agencies. Contract actions awarded by the Department on another agency's behalf with the other agency's funding are excluded.

FOR FURTHER INFORMATION CONTACT: Frank Bajowski, Office of the Procurement Executive, U.S. Department of the Treasury, 1500 Pennsylvania Avenue NW., Washington, DC 20220, at (202) 622-6760 or OfficeoftheProcurementExecutive@treasury.gov.

SUPPLEMENTARY INFORMATION: In accordance with Section 743 of Division C of the FY 2010 Consolidated Appropriations Act, Public Law (Pub. L.) 111-117, agencies required to submit an inventory in accordance with the Federal Activities Inventory Reform Act of 1998 (Pub. L. 105-270; 31 U.S.C. 501 note), other than the Department of the Defense, shall also prepare an annual service contract inventory. Treasury's FY 2016 service contract inventory data is included in the government-wide inventory posted on www.acquisition.gov. The government-wide inventory can be filtered to display the inventory data specific to Treasury.

Dated: October 5, 2017.
Iris B. Cooper,
Senior Procurement Executive.

[FR Doc. 2017-22248 Filed 10-12-17; 8:45 am]

BILLING CODE P